DEPARTMENT OF LABOR

Employment and Training Administration

[TA-W-64,652]

Georgia Pacific, LLC, Louisville, MS; Notice of Termination of Investigation

Pursuant to Section 221 of the Trade Act of 1974, as amended, an investigation was initiated on December 11, 2008, in response to a petition filed by a company official on behalf of workers of Georgia Pacific, LLC, Louisville, Mississippi.

The petitioner has requested that the petition be withdrawn. Consequently, the investigation has been terminated.

Signed at Washington, DC, this 23rd day of January 2009.
Linda G. Poole,
Certifying Officer, Division of Trade Adjustment Assistance.

[FR Doc. E9-2738 Filed 2-9-09; 8:45 am]

BILLING CODE 4510-FN-P